DEPARTMENT OF HOUSING AND URBAN DEVELOPMENT

[Docket No. FR-6466-N-01]

Request for Information; Direct Rental Assistance

AGENCY: Office of the Assistant Secretary for Policy Development and Research, Office of the Assistant Secretary for Public and Indian Housing, Department of Housing and Urban Development, HUD.

ACTION: Request for information.

SUMMARY: In the Housing Choice Voucher (HCV) program, rental housing subsidies are provided on behalf of an eligible low-income renter to the landlord of a rental unit. Recently, some researchers, advocates, policymakers, and public housing agencies have expressed interest in testing a “direct rental assistance” model. The model would provide a rental housing subsidy directly to the renter, rather than providing it to the landlord. The approach is similar to what HUD did 50 years ago in its Experimental Housing Allowance Program (EHAP). While HUD is not currently providing direct rental assistance, and this Notice does not provide any funding to do so, HUD's Office of Policy Development and Research (PD&R) and Office of Public and Indian Housing (PIH) are releasing this Request for Information (RFI) to seek public input on the concept to inform future policy development.

DATES: Comments are requested on or before August 30, 2024. Late-filed comments will be considered to the extent practicable.

ADDRESSES: Interested persons are invited to submit comments responsive to this RFI. All submissions must refer to the docket number and title of the RFI. Commenters are encouraged to identify the number of the specific question or questions to which they are responding. Responses may include the name(s) of the person(s) or organization(s) filing the comment; however, because any responses received by HUD will be publicly available, responses should not include any personally identifiable information or confidential commercial information.

There are two methods for submitting public comments.

1. Electronic Submission of Comments. Interested persons may submit comments electronically through the Federal eRulemaking Portal at http://www.regulations.gov.

2. Submission of Comments by Mail. Comments may be submitted by mail to the Regulations Division, Office of General Counsel, Department of Housing and Urban Development, 451 7th Street SW, Room 10276, Washington, DC 20410-0500.

HUD strongly encourages commenters to submit their feedback and recommendations electronically. Electronic submission of comments allows the commenter maximum time to prepare and submit a response, ensures timely receipt by HUD, and enables HUD to make comments immediately available to the public. Comments submitted electronically through the http://www.regulations.gov website can be viewed by other commenters and interested members of the public. Commenters should follow the instructions provided on that site to submit comments electronically.

To receive consideration as public comments, comments must be submitted through one of the two methods specified above. Again, all submissions must refer to the docket number and title of the RFI.

Public Inspection of Public Comments. HUD will make all properly submitted comments and communications available for public inspection and copying during regular business hours at the above address. Due to security measures at the HUD Headquarters building, an advance appointment to review the public comments must be scheduled by calling the Regulations Division at (202) 708-3055 (this is not a toll-free number). HUD welcomes and is prepared to receive calls from individuals who are deaf or hard of hearing, as well as individuals with speech or communication disabilities. To learn more about how to make an accessible telephone call, please visit https://www.fcc.gov/consumers/guides/telecommunications-relay-service-trs. Copies of all comments submitted are available for inspection and downloading at www.regulations.gov.

FOR FURTHER INFORMATION CONTACT: Paul Joice, Program Demonstration Division, Office of Policy Development and Research, Department of Housing and Urban Development; telephone number 312-913-8597 (this is not a toll-free number), or via email at DirectRentalAssistance@hud.gov. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

Developing relevant evidence and using rigorous research are essential for HUD's mission of creating strong, sustainable, inclusive communities and quality, affordable homes for all. PD&R is responsible for supporting innovation in housing policy, improving HUD programs through evaluations and demonstrations, and conducting rigorous research to fill key evidence gaps in the field. HUD's Learning Agenda: 2022-2026 ¹ aligned with the Department's Fiscal Year 2022-2026 Strategic Plan ² frames a multiyear agenda ensuring a robust pipeline of research, including research opportunities that we highlight for Congress in the Department's budget, as well as efforts HUD launches in-house and with external research partners. The Learning Agenda draws on extensive stakeholder engagement and input from practitioners, advocates, people with lived experience in HUD programs, researchers, and policymakers at the Federal, State, and local levels. The Learning Agenda: 2022-2026 includes several research questions about how HUD can effectively meet needs for high-quality, rent-assisted housing that supports housing security and economic advancement, including a research question about the potential effect of providing tenant-based rental assistance directly to the tenant.

¹ https://www.huduser.gov/portal/sites/default/files/pdf/HUD-Learning-Agenda.pdf.

² https://www.hud.gov/sites/dfiles/CFO/documents/FY2022-2026HUDStrategicPlan.pdf.

In 2023, the PD&R also published a post on the PD&R Edge ³ identifying HUD's interest in learning about direct rental assistance programs. In the post, PD&R leadership called attention to the Philadelphia Housing+ program, a direct rental assistance program in Philadelphia, and other guaranteed income pilots across the country. PD&R expressed interest in partnering with public housing agencies, philanthropies, and other local groups to learn about direct rental assistance programs. In response to the post on the PD&R Edge, a range of stakeholders reached out to HUD expressing support for the concept, underscoring the broad interest in learning about this type of assistance.

³ https://www.huduser.gov/portal/pdredge/pdr-edge-frm-asst-sec-090523.html.

Consideration of a direct rental assistance program has deep roots at HUD. In the 1970s, HUD ran the Experimental Housing Allowance Program (EHAP) to test tenant-based housing subsidies. The program ultimately helped to inform the design of the HCV program, although the HCV program differs from historic housing allowances on several important dimensions. One notable feature of EHAP, which was not adopted by the HCV program, was that the subsidy was paid directly to the assisted household, rather than being paid to the landlord. One reason that HUD is now interested in direct rental assistance is to better understand the implications of that policy design choice.

A growing number of stakeholders have expressed general interest in the direct rental assistance concept, but many details about the program design remain unresolved. Among those details are the method of calculating the subsidy, the mode for conducting the housing inspection, and the role of PHAs in the process. While HUD has not committed to a specific set of design choices, PD&R leadership has outlined a possible program design.⁴ A forthcoming article in Cityscape ⁵ also considers program design choices.

⁴ https://www.huduser.gov/portal/sites/default/files/pdredge/DRA-proposal-9-5-23.pdf.

⁵ https://www.huduser.gov/portal/periodicals/cityscape.html.

HUD's interest in research on direct rental assistance is fundamentally tied to it being a rental assistance program, not an unrestricted cash transfer. For direct rental assistance to support HUD's evidence-based policy development and program improvement goals, HUD believes it should align with the HCV program in certain ways. Specifically:

• The subsidy should be provided to the renter, and the renter would be required to use the subsidy for housing. The rental subsidy should not exceed the recipient's total gross rent.

• The subsidy should be provided to low-income households eligible for the HCV program, and the amount of the subsidy should be roughly equivalent to the HCV subsidy.

• Any test of direct rental assistance should be administered in partnership with PHAs to ensure that the program draws HCV-eligible households from the PHA waitlists, but the PHAs would have no direct contractual relationships with landlords renting to direct rental assistance recipients.

• A housing quality requirement of some type should ensure that direct rental assistance recipients occupy decent, safe, and sanitary housing.

HUD is interested in learning about the effect of direct rental assistance on the following outcomes:

• How likely are households offered direct rental assistance to complete all necessary steps to receive the assistance? What is the length of time from an offer of assistance to receipt of assistance?

• What types of burdens—for tenants, landlords, and PHAs—are associated with the administration of direct rental assistance?

• How willing are landlords to rent to tenants receiving direct rental assistance?

• Do renters have access to a broad range of units and neighborhoods using direct rental assistance?

• What is the quality of housing when tenants are using direct rental assistance?

• Do tenants make timely rent payments using direct rental assistance?

II. Purpose of This Request for Information

The purpose of this RFI is to solicit information regarding the direct rental assistance concept, including the potential advantages and disadvantages of such a program. HUD is not currently developing a direct rental assistance demonstration or pilot, but may do so in the future under the Moving to Work (MTW) Demonstration program or under other new legislative authority if provided by Congress. There may also be PHAs, funders, researchers, and other partners interested in developing pilot programs independent of HUD. Responses to this RFI will inform HUD and other stakeholders interested in direct rental assistance. Comments from housing providers, renters, PHAs, and other organizations that serve low-income renters would be particularly helpful.

III. Specific Information Requested

While HUD welcomes all comments relevant to the direct rental assistance concept, HUD is particularly interested in receiving input from interested parties on the questions outlined below.

1. What policies or procedures should be in place to ensure that direct rental assistance payments are used by recipients for rental housing costs?

2. What steps should be taken to ensure that direct rental assistance is not treated as income for the purposes of taxes and other public benefit programs?

3. How would the behaviors or engagement of housing providers, tenants or other stakeholders be expected to respond to direct rental assistance?

4. How should direct rental assistance subsidies be calculated?

5. How could a direct rental assistance program ensure that recipients have decent, safe, and sanitary housing, without creating a burden on landlords that might deter them from accepting tenants with the direct rental assistance subsidy?

6. What aspects of existing rental assistance programs, beyond those noted above, should be preserved in a direct rental assistance pilot or demonstration?

Solomon Greene,
Principal Deputy Assistant Secretary, Office of the Assistant Secretary for Policy Development and Research.
Dominique Blom,
General Deputy Assistant Secretary, Office of the Assistant Secretary for Public and Indian Housing.

[FR Doc. 2024-16114 Filed 7-22-24; 8:45 am]

BILLING CODE 4210-67-P